DEPARTMENT OF THE INTERIOR

Minerals Management Service

Outer Continental Shelf (OCS) Policy Committee of the Minerals Management Advisory Board; Notice and Agenda for Meeting

AGENCY: Minerals Management Service (MMS), Interior.

ACTION: Notice of meeting.

SUMMARY: The OCS Policy Committee of the Minerals Management Advisory Board will meet at the Days Hotel and Conference Center in Herndon, Virginia.

DATES: Tuesday, May 21, 2002, from 8:30 a.m. to 5 p.m. and Wednesday, May 22, 2002, from 8:30 a.m. to 5 p.m.

ADDRESSES: The Days Hotel and Conference Center, 2200 Centreville Road, Herndon, Virginia 20170, telephone (703) 471-6700.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, environmental interests, industry and other parties involved with the OCS Program. It provides policy advice to the Secretary of the Interior through the Director of MMS on all aspects of leasing, exploration, development, and protection of OCS resources.

The agenda for May 21st will cover the following principal subjects:

Department's Strategic Plan. This presentation will provide an overview of the Department's new strategic plan, and provide insight into the process MMS is undertaking to develop a strategic plan that aligns with the Department's strategic direction.

Education and Outreach Subcommittee Report. This presentation will provide an update on the Subcommittee's charge and activities since inception in October 2001.

Ocean Commission. This presentation will provide an update on activities of the U.S. Commission on Ocean Policy since the October 2001 meeting.

OCS Scientific Committee Update. This presentation will provide an update on the activities of the Scientific Committee. It will also highlight the activities that are related to mercury, energy issues/concerns, ocean issues, hard mineral activities, and any other topics that are relevant to both Committees.

Hard Minerals Subcommittee Update. This presentation will provide an update on subcommittee activities and other pertinent hard minerals information.

Biological Monitoring Program on Beach Nourishment Operations. This presentation will address the $8 million multi-year monitoring study recently completed by the U.S. Army Corps of Engineers.

Geographical Information System. This presentation will address how the State of Alabama uses the geographical information system for sand and gravel resources and oil and gas resources.

Futuristic Energy Production Schemes in the OCS. This presentation will address the possible use of OCS facilities for hydrogen production and alternative energy schemes.

Congressional/Legislative Update. This presentation will provide an update on current congressional issues related to the OCS program.

Moving Toward a National Ocean Observing System: Results of the Integrated Sustained Ocean Observing System (ISOOS) Workshop. This presentation will address the potential for establishing a National Ocean Observing System. Results of the March 2002, ISOOS Workshop, hosted by Ocean.US of the National Oceanographic Partnership Program, will be presented and discussed.

Recent Bankruptcies and the Potential Impact on MMS. This presentation will address how recent events could potentially impact OCS activities.

The agenda for May 22nd will cover the following principal subjects: Change in the Natural Gas Drilling Outlook. This presentation will address natural gas supply/demand.

Floating Production Storage and Offloading Systems Record of Decision—Next Steps. This presentation will address the record of decision, the environmental impact statement, industry approaches, and the Coast Guard's regulatory approach.

Eastern Gulf of Mexico Sales. This presentation will address Lease Sales 181 and 189.

State Issues. This presentation will address several different issues affecting states, which may include concerns regarding drilling and tourism, beach nourishment, and pipelines.

Mercury in Drilling Muds. This presentation will address the studies regarding environmental research related to mercury in drilling muds, industry drilling operations and the regulatory framework for permitting these discharges on the OCS.

MMS Regional Updates. The Regional Directors will highlight activities off the California and Alaska coasts and in the Gulf of Mexico.

The meeting is open to the public. Approximately 100 visitors can be accommodated on a first-come-first-served basis.

Upon request, interested parties may make oral or written presentations to the OCS Policy Committee. Such requests should be made no later than May 13, 2002, to Jeryne Bryant. Requests to make oral statements should be accompanied by a summary of the statement to be made. Please see FOR FURTHER INFORMATION CONTACT section for address and telephone number.

Minutes of the OCS Policy Committee meeting will be available for public inspection and copying at MMS in Herndon.

Authority: Federal Advisory Committee Act, Public Law 92-463, 5 U.S.C. Appendix 1, and the Office of Management and Budget's Circular No. A-63, Revised.

Dated: May 9, 2002.
Michael Hunt,
Acting Associate Director for Offshore Minerals Management.

[FR Doc. 02-12035 Filed 5-13-02; 8:45 am]

BILLING CODE 4310-MR-P